DEPARTMENT OF ENERGY

Federal Energy Regulatory Commission

[Project No. 2512-075]

Hawks Nest Hydro, LLC; Notice of Application Tendered for Filing With the Commission and Establishing Procedural Schedule for Licensing and Deadline for Submission of Final Amendments

Take notice that the following hydroelectric application has been filed with the Commission and is available for public inspection.

a. Type of Application: New Major License.

b. Project No.: 2512-075.

c. Date Filed: December 29, 2015.

d. Applicant: Hawks Nest Hydro, LLC (Hawks Nest Hydro).

e. Name of Project: Hawks Nest Hydroelectric Project.

f. Location: The existing project is located on the New River, in Fayette County, West Virginia. The project does not occupy any federal lands.

g. Filed Pursuant to: Federal Power Act, 16 U.S.C. 791 (a)-825(r).

h. Applicant Contact: Steven Murphy, Manager, Licensing, Brookfield Renewable Energy Group, 33 West 1st Street South, Fulton, New York 13069; Telephone (315) 598-6130.

i. FERC Contact: Monir Chowdhury, (202) 502-6736 or monir.chowdhury@ferc.gov.

j. This application is not ready for environmental analysis at this time.

k. Project Description: The existing Hawks Nest Hydroelectric Project consists of: (1) A 948-foot-long concrete gravity dam with a crest elevation of 795.0 feet National Geodetic Vertical Datum of 1929 (NGVD29); (2) 14 ogee-type spillway bays extending almost the entire length of the dam, each with a 25-foot-high by 50-foot-wide Stoney-type steel lift gate and separated by a 9-foot-wide concrete pier; (3) a 243-acre reservoir with a gross storage capacity of 7,323 acre-feet at a normal pool elevation of 819.9 feet NGVD29; (4) an intake structure located at the right shoreline (looking downstream) of the reservoir just upstream of the dam and consisting of a 110-foot-wide by 50-foot-high trashrack structure and a Stoney-type 42-foot-high by 50-foot-wide bulkhead intake gate that sits back approximately 50 feet from the opening where the trashrack is located; (5) a 16,240-foot-long tunnel that runs along the right side of the river to convey water from the intake to the powerhouse downstream of the New River; (6) a 600-foot-long by 170-foot-wide surge basin located at a point on the tunnel approximately 60 percent of the distance from the intake to the powerhouse; (7) a 116-foot-diameter and 56-foot-high differential surge tank located at the downstream end of the tunnel and before the powerhouse; (8) a 210-foot-long by 74.5-foot-wide powerhouse containing four turbine-generator units, each with a rated capacity of approximately 25.5 megawatts; (9) two parallel approximately 5.5-mile-long, 69-kilovolt transmission lines; and (10) appurtenant facilities.

Hawks Nest Hydro operates the project in a run-of-river mode. The existing license (Article 402) requires that the project release a continuous minimum flow of 100 cubic feet per second into the bypassed reach between the dam and the powerhouse. Hawks Nest Hydro proposes to continue run-of-river operation and a modified minimum flow schedule for the bypassed reach. The project generates an annual average of 544,253 megawatt-hours.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | February 2016.
Filing of recommendations, preliminary terms and conditions, and fishway prescriptions | April 2016.
Commission issues EA | August 2016.
Comments on EA | September 2016.
Modified Terms and Conditions | November 2016.
Commission Issues Final EA, if necessary | February 2017.

o. Final amendments to the application must be filed with the Commission no later than 30 days from the issuance date of the notice of ready for environmental analysis.

Dated: January 11, 2016.
Nathaniel J. Davis, Sr.,
Deputy Secretary.

[FR Doc. 2016-00706 Filed 1-14-16; 8:45 am]

BILLING CODE 6717-01-P